DEPARTMENT OF HEALTH AND HUMAN SERVICES

Centers for Disease Control and Prevention

[Program Announcement Number 04094]

Disease, Disability, and Injury Prevention and Control Special Emphasis Panel (SEP): Applied Research on Antimicrobial Resistance (AR): Estimates of Economic Cost for Antimicrobial Resistant Human Pathogens of Public Health Importance

In accordance with Section 10(a)(2) of the Federal Advisory Committee Act (Pub. L. 92-463), the Centers for Disease Control and Prevention (CDC) announces the following meeting.

Name: Disease, Disability, and Injury Prevention and Control Special Emphasis Panel (SEP): Applied Research on Antimicrobial Resistance (AR): Estimates of Economic cost for Antimicrobial Resistant Human Pathogens of Public Health Importance, Program Announcement Number 04094.

Times and Dates: 8:30 a.m.-9 a.m., July 28, 2004 (Open). 9:15 a.m.-5:30 p.m., July 28, 2004 (Closed)

Place: Marriott Airport Hotel, 4711 Best Road, College Park, GA 30337, Telephone Number 404-766-7900.

Status: Portions of the meeting will be closed to the public in accordance with provisions set forth in Section 552b(c)(4) and (6), Title 5 U.S.C., and the Determination of the Director, Management Analysis and Services Office, CDC, pursuant to Pub. L. 92-463.

Matters To Be Discussed: The meeting will include the review, discussion, and evaluation of applications received in response to: Applied Research on Antimicrobial Resistance (AR): Estimates of Economic cost for Antimicrobial Resistant Human Pathogens of Public Health Importance, Program Announcement Number 04094.

For Further Information Contact:

Trudy Messmer, Ph.D., Scientific Review Administrator, Centers for Disease Control, National Center for Infectious Diseases, 1600 Clifton Road NE., Mailstop C19, Atlanta, GA 30333, Telephone 404-639-2176.

The Director, Management Analysis and Services Office, has been delegated the authority to sign Federal Register notices pertaining to announcements of meetings and other committee management activities, for both CDC and the Agency for Toxic Substances and Disease Registry.

Dated: June 29, 2004.
Alvin Hall,
Director, Management Analysis and Services Office, Centers for Disease Control and Prevention (CDC).

[FR Doc. 04-15387 Filed 7-6-04; 8:45 am]

BILLING CODE 4163-18-P